DEPARTMENT OF COMMERCE

National Oceanic and Atmospheric Administration

50 CFR Part 660

[Docket No. 100804324-1265-02]

RIN 0648-BB65

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the commercial and recreational Pacific Coast groundfish fisheries. These actions, which are authorized by the Pacific Coast Groundfish Fishery Management Plan (FMP), are intended to allow fisheries to access more abundant groundfish stocks while protecting overfished and depleted stocks.

DATES: Effective 0001 hours (local time) January 1, 2012. Comments on this final rule must be received no later than January 20, 2012.

ADDRESSES: You may submit comments, identified by FDMS docket number NOAA-NMFS-2010-0194 by any one of the following methods:

• Electronic Submissions: Submit all electronic public comments via the Federal eRulemaking Portal http://www.regulations.gov.

• Fax: (206) 526-6736, Attn: Colby Brady.

• Mail: William W. Stelle, Jr., Regional Administrator, Northwest Region, NMFS, 7600 Sand Point Way NE., Seattle, WA 98115-0070, Attn: Colby Brady.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Colby Brady (Northwest Region, NMFS), phone: (206) 526-6117, fax: (206) 526-6736, colby.brady@noaa.gov.

SUPPLEMENTARY INFORMATION:

Electronic Access

This final rule is accessible via the Internet at the Office of the Federal Register's Web site at http://www.gpo.gov/fdsys/search/home.action. Background information and documents are available at the Pacific Fishery Management Council's Web site at http://www.pcouncil.org/.

Background

The Pacific Coast Groundfish FMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS. On November 3, 2010, NMFS published a proposed rule to implement the 2011-2012 harvest specifications and management measures for most species of the Pacific Coast groundfish fishery (75 FR 67810). The final rule to implement the 2011-12 harvest specifications and management measures for most species of the Pacific Coast Groundfish Fishery was published on May 11, 2011 (76 FR 27508). This final rule was subsequently amended by inseason actions on June 30, 2011 (76 FR 38313) and October 31, 2011 (76 FR 67092). Additional changes to the 2011-2012 specifications and management measures were made in a final rule on May 19, 2011 (76 FR 28897), an interim final rule on June 15, 2011 (76 FR 34910), and in a correcting amendment on September 2, 2011 (76 FR 54713). On September 27, 2011, NMFS published a proposed rule to implement final 2012 specifications for overfished species and assessed flatfish species pursuant to Secretarial Amendment 1 to the Groundfish FMP (76 FR 59634). That final rule is effective January 1, 2012. These specifications and management measures are codified in the CFR (50 CFR part 660, subparts C through G).

Changes to current groundfish management measures implemented by this action were recommended by the Council, in consultation with the States of Washington, Oregon, and California, at its November 2-November 6, meeting in Costa Mesa, California. The Council recommended adjusting the biennial groundfish management measures for the remainder of the biennial period to respond to updated fishery information and other inseason management needs. These changes include: adoption of regulations that would create a lingcod recreational fishing closure off Washington to conform with state regulations; adjustment of the trawl RCA boundaries; and changes to the sablefish and minor nearshore and black rockfish cumulative limits in commercial fixed gear fisheries off Washington, Oregon, and California. The adjustments to fishery management measures are not expected to result in greater impacts to overfished species than originally projected through the end of 2012. Estimated mortality of overfished and target species are the result of management measures designed to achieve, to the extent possible, but not exceed, annual catch limits (ACLs) of target species while fostering the rebuilding of overfished stocks by remaining within their rebuilding ACLs.

Review of 2011-2012 Fisheries and Setting Management Measures for the Remainder of the Biennium

At its November 2011 meeting, the Council reviewed the 2011 commercial groundfish fisheries by considering: (1) The fishery management measures initially set for 2011, (2) modifications to management measures that were needed inseason for 2011, as new data became available throughout the 2011 season, and (3) retrospective total catch pattern data from the 2011 year-to-date.

The Council's goal in scrutinizing the 2011 groundfish fisheries was to develop a set of management measures for the remainder of the biennial period that would take into account new knowledge gained in 2011 to better structure the fisheries for the remainder of the 2011-2012 biennium. The improved structure of the initial 2012 management measures was designed to continue to keep total catch of managed species liberal enough to allow the catch of target species to approach, but not exceed, their 2012 ACLs, yet be conservative enough to reduce the need for inseason restrictions. The changes also allow the industry to plan for their 2012 fishing season(s) and ensure that management measures in place for the remainder of the biennial period reflect the best available science.

Washington Recreational Groundfish Fishery Management Measures

The State of Washington manages canary and yelloweye rockfish under a harvest guideline for their recreational fisheries. The state modifies portions of their recreational fisheries, through inseason adjustment to state regulations, in order to keep catch within the harvest guidelines for canary and/or yelloweye rockfish.

During 2011, the Washington State Department of Fish and Wildlife (WDFW) received reports of higher than anticipated yelloweye rockfish and canary rockfish bycatch due to increased interest from recreational sport and charter boat fleets targeting lingcod and bottomfish in deep water ocean areas off the Washington south coast and Columbia River management areas. The state took emergency action to close portions of Washington Marine Areas 1 and 2 to recreational fishing to ensure that recreational yelloweye rockfish and canary rockfish impacts stay below the recreational harvest guideline in 2011 and beyond. Following the emergency state action, WDFW worked with charter boat and sport fishing representatives in both Westport and Ilwaco to develop areas that are recommended for permanent closure to lingcod fishing for 2012 and after.

WDFW requested that the Council adopt inseason changes to conform with the lingcod closures in Marine Areas 1 and 2 to ensure that harvests of canary and yelloweye rockfish stay within Washington harvest guidelines in 2012 and beyond.

Therefore, the Council recommended, and NMFS is implementing, a lingcod recreational fishery area closure as follows: lingcod fishing is prohibited year round, except in Marine Area 2 on days when the Pacific halibut fishery is open, in the area seaward (West) of a straight line connecting all of the following points in the order stated: 47°31.70′ N. lat., 124°45.00′ W. long.; 46°38.17′ N. lat., 124°30.00′ W. long.; 46°38.17′ N. lat., 124°21.00′ W. long.; and 46°25.00′ N. lat., 124°21.00′ W. long.

Trawl Rockfish Conservation Area

The Council recommended, and NMFS is implementing, an adjustment to the seaward line of the trawl Rockfish Conservation Area (RCA) in Washington State, south of Cape Alava and in northern Oregon, north Cape Falcon from the 200 fathom line (366-m) to the 150 fathom line (274-m) for Period 2, (March 1-April 30).

The Council received a request to review the effects of an adjustment to the seaward boundary line of the trawl RCA south of 48° 10′ N. lat and north of 45° 46′ N. lat. from 200 fm to 150 fm for Period 2, (March 1-April 30) to open some additional slope areas. The Council considered time-weighted historical average bycatch rates stratified by depth for this area in Period 2. Encounter rates of overfished species would be slightly increased for darkblotched rockfish, Pacific ocean perch, widow rockfish and yelloweye rockfish. Catch of these species in the trawl fishery is now managed with Individual Fishing Quota (IFQ). The Council considered that fishing behavior and bycatch rates are likely to be different than those observed prior to the IFQ fishery because of the individual accountability inherent in the IFQ program. The Council also considered how mortality of these species in the 2011 IFQ fishery is very low, at 17 percent, 19 percent, 35 percent, and 6 percent, respectively (as of October 11, 2011).

Therefore, the Council recommended and NMFS is implementing a shift in the seaward boundary of the trawl RCA for the area south of 48°10′ N. lat (Cape Alava) to north of 45°46′ N. lat. (Cape Falcon) by shifting the seaward boundary of the trawl RCA boundary from the boundary line approximating the 200 fathom (fm) (366-m) depth contour to the boundary line approximating the 150 fm (274-m) depth contour for Period 2 (March 1 through April 30) of 2012.

Limited Entry Fixed Gear and Open Access Sablefish Daily Trip Limit (DTL) Fishery Management Measures

Based on the Council's goals in reviewing 2011 fishery data, as described above, the Council considered the various adjustments to fishery management measures in the limited entry fixed gear and open access fisheries that were necessary during the first ten months of the 2011-2012 biennium at its November 2011 meeting. The Council and its advisory bodies considered the most recent information on the status of 2011 fisheries and requests from industry and provided the following recommendations for inseason adjustments for the remainder of the biennium.

Limited Entry Fixed Gear Sablefish DTL Fishery North of 36° N. Lat.

At its March 2011 meeting, the Council took action to reduce limits in the limited entry fixed gear sablefish DTL fishery north of 36° N. lat. This recommendation was precautionary, in response to the discovery of an error in the methods that were used to estimate landings of sablefish in the DTL fishery. At its June 2011 meeting, the Council considered corrected catch estimates and made further restrictions to trip limits in this fishery to keep projected catch through the end of the year within the fishery harvest guideline and to prevent exceeding the non-trawl fishery allocation for sablefish in 2011.

At its November 2011 meeting, the Council considered stable trip limits for periods 1-6 for the limited entry fixed gear fisheries north of 36° N. lat. for 2012. Trip limits for 2012 were estimated by the GMT using landings projection models adjusted for discard mortality with the most recent available data. The updated trip limits that the Council considered for 2012 are anticipated to achieve, but not exceed, the fishery harvest guideline for sablefish in 2012. Furthermore, a stable trip limit approach will help provide consistency, safety, and predictability to fishing communities.

West Coast Groundfish Observer data indicate that the trip limits recommended for periods 1-6 are not anticipated to increase projected impacts of co-occurring overfished groundfish species.

Therefore, the Council recommended, and NMFS is implementing, the following changes to trip limits for the limited entry fixed gear sablefish DTL fishery north of 36° N. lat.: change to “1,300 (590 kg) lb per week, not to exceed 5,000 (2268 kg) lb per 2 months” in periods 1-6, on January 1, through the end of the year.

Open Access Sablefish DTL Fishery North of 36° N. Lat.

The Council recommended, and NMFS is implementing, stable trip limits for periods 1-6 for the open access DTL fisheries north of 36° N. lat. for 2012. Appropriate trip limits for 2012 were estimated by the GMT using landings projection models adjusted for discard mortality with the most recent available data. A stable trip limit approach will help provide consistency, safety, and predictability to fishing communities.

West Coast Groundfish Observer data indicate that the stable trip limits recommended for periods 1-6 are not anticipated to increase projected impacts of co-occurring overfished groundfish species.

Therefore, the Council recommended, and NMFS is implementing, the following changes to the open access sablefish DTL fishery trip limits north of 36° N. lat.: change to “300 lb (136 kg) per day, or 1 landing per week of up to 900 lb (408 kg), not to exceed 1,800 lb (817 kg) per 2 months” in periods 1-6, on January 1, through the end of the year.

Sablefish DTL Fisheries South of 36° N. Lat.

The Council recommended, and NMFS is implementing, stable trip limits for periods 1-6 for the limited entry fixed gear and open access DTL fisheries south of 36° N. lat. for 2012. Appropriate trip limits for 2012 were estimated by the GMT using landings projection models adjusted for discard mortality with the most recent available data. A stable trip limit approach will help provide consistency, safety, and predictability to fishing communities.

West Coast Groundfish Observer data indicate that the stable trip limits recommended for periods 1-6 are not anticipated to increase projected impacts of co-occurring overfished groundfish species.

Therefore, the Council recommended and NMFS is implementing the following changes to open access fishery trip limits south of 36° N. lat.: change to “300 lb (136 kg) per day, or 1 landing per week of up to 1,350 lb (614 kg), not to exceed 2,700 lb (1,227 kg) per 2 months” in periods 1-6, on January 1, through the end of the year. NMFS is also implementing the following changes to limited entry fixed gear trip limits south of 36° N. lat.: change to “1,800 (817 kg) lb per week” in periods 1-6, on January 1, through the end of the year.

Minor Nearshore and Black Rockfish Trip Limits Between 42° N. Lat. and 40°10.00′ N. Lat.

Black rockfish is a nearshore rockfish species that was assessed in 2007 as two separate stocks north and south of 45°56′ N. lat., and therefore the harvest specifications are divided at the Washington/Oregon border (46°16.00′ N. lat.). The biomass north of 45°56′ N. lat. was estimated to be at 53 percent of its unfished biomass, while the biomass south of 45°56′ N. lat. was estimated to be 70 percent of its unfished biomass in 2007. The 2012 black rockfish ACL for the area south of 46°16.00′ N. lat. was set at 1,000 mt, which is a constant catch strategy designed to keep the biomass above 40 percent of its estimated unfished biomass. The black rockfish ACL in the area south of 46°16.00′ N. lat. is subdivided with separate harvest guidelines (HGs) being set for the area north of 42° N. lat. (580 mt/58 percent) and for the area south of 42° N. lat. (420 mt/42 percent). Oregon and California work cooperatively to manage their nearshore fisheries (both commercial and recreational) to approach but not exceed the black rockfish ACL in the area south of 46°16.00′ N. lat. The 2012 black rockfish commercial allocation for California is 185 mt.

At their November 2011 meeting, the Council considered the most recent limited entry fixed gear and open access nearshore fishery information, and recommended that the increased and restructured limit that was implemented during 2011, March-December (Periods 2-6), remain in place for the entire 2012 calendar year, beginning on January 1, 2012. The change allows for increased landings of black rockfish beginning in period 1, on January 1 of 2012, through the end of the year.

Blue rockfish sub-limits and have been shown to be an effective management tool for commercial nearshore fixed gear fishery efforts to target the abundant black rockfish resource with negligible bycatch of blue rockfish or other non-targeted overfished rebuilding species, especially in conjunction with California state 20 fathom depth restrictions. Modest increases to the minor nearshore rockfish trip limits in the limited entry fixed gear and open access fisheries in Period 1 (January 1-February 31) are not anticipated to increase impacts to co-occurring overfished rockfish because projected impacts to overfished species are calculated assuming that up to 82 mt of black rockfish are harvested, which is an amount larger than historically seen and larger than anticipated under the new trip limits.

Therefore, the Council recommended, and NMFS is implementing, an increase to the minor nearshore rockfish trip limit, between 42° N. lat. and 40°10′ N. lat. from “6,000 lb (2,722 kg) per two months, no more than 1,200 lb (544 kg) of which may be species other than black or blue rockfish” to “8,500 lb (3,856 kg) per two months, no more than 1,200 lb (544 kg) of which may be species other than black rockfish” beginning in period 1, on January 1 of 2012, through the end of the year.

Classification

This final rule makes routine inseason adjustments to groundfish fishery management measures based on the best available information and is taken pursuant to the regulations implementing the Pacific Coast Groundfish FMP.

These actions are taken under the authority of 50 CFR 660.370(c) and are exempt from review under Executive Order 12866.

These inseason adjustments are also taken under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to groundfish management measures under 5 U.S.C. 553(b)(B) because notice and comment would be impracticable and contrary to the public interest. Also, for the same reasons, NMFS finds good cause to waive the 30-day delay in effectiveness pursuant to 5 U.S.C. 553(d)(3), so that this final rule may become effective as quickly as possible.

The recently available data upon which these recommendations were based was provided to the Council, and the Council made its recommendations, at its November 2-6, 2011, meeting in Costa Mesa, California. The Council recommended that these changes be implemented by January 1, 2012 or as quickly as possible thereafter. There was not sufficient time after that meeting to draft this document and undergo proposed and final rulemaking before these actions need to be in effect. For the actions to be implemented in this final rule, affording the time necessary for prior notice and opportunity for public comment would prevent NMFS from managing fisheries using the best available science to approach, without exceeding, the ACLs for federally managed species in accordance with the FMP and applicable laws. The adjustments to management measures in this document affect commercial fisheries off Washington, Oregon, and California and recreational fisheries off Washington.

These adjustments to management measures must be implemented in a timely manner: to create a Washington State lingcod recreational fishing area closure prior to the March 17 opening of the recreational fishery; to allow additional flexibility for fishermen subject to the limited entry trawl RCA; and to allow fishermen an opportunity to harvest available catch limits in 2012 for sablefish, minor nearshore and black rockfish, under stable cumulative limits in limited entry fixed gear and open access fisheries. These changes must be implemented in a timely manner, as early as possible in 2012, so that fishermen are allowed increased opportunities to harvest available healthy stocks, and meet the objective of the Pacific Coast Groundfish FMP to allow fisheries to approach, but not exceed, ACLs. It would be contrary to the public interest to delay implementation of these changes until after public notice and comment, because making this regulatory change in January 1, 2012 allows additional harvest in fisheries that are important to coastal communities.

These adjustments to management measures must also be implemented in a timely manner to prevent 2012 ACLs from being exceeded, to prevent premature closure of the fishery. Cumulative limits cover a two-month period, so if implementation is delayed much past January 1, fishermen could be prevented from access to harvest abundant black rockfish stocks due to lower than necessary limits before the revised limit is effective.

Delaying these changes would also keep management measures in place that are not based on the best available data. Accordingly, for the reasons stated above, NMFS finds good cause to waive prior notice and comment and the delay in effectiveness.

List of Subjects in 50 CFR Part 660

Fisheries, Fishing, Indian fisheries.

Dated: December 15, 2011.
Steven Thur,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 1 (North) to part 660, subpart D is revised to read as follows:

BILLING CODE 3510-22-P

3. Tables 2 (North) and 2 (South) to part 660, subpart E are revised to read as follows:

4. Tables 3 (North) and 3 (South) to part 660, subpart F, are revised to read as follows:

BILLING CODE 3510-22-C

5. In § 660.360, paragraphs (c)(1)(i)(D)(2) and (c)(1)(i)(D)(3) are revised to read as follows:

§ 660.360 Recreational fishery—management measures.

* * * * *

(c) * * *

(1) * * *

(i) * * *

(D) * * *

(2) Between the Queets River (47°31.70′ N. lat.) and Leadbetter Point (46°38.17′ N. lat.) (Washington state Marine Area 2), recreational fishing for groundfish, except lingcod, is prohibited seaward of a boundary line approximating the 30 fm (55 m) depth contour from March 15 through June 15 with the following exceptions: Recreational fishing for rockfish is permitted within the RCA from March 15 through June 15; recreational fishing for sablefish and Pacific cod is permitted within the recreational RCA from May 1 through June 15. Between the Queets River (47°31.70′ N. lat.) and Leadbetter Point (46°38.17′ N. lat.) (Washington state Marine Area 2), recreational fishing for lingcod is prohibited year round seaward of a straight line connecting all of the following points in the order stated: 47°31.70′ N. lat., 124°45.00′ W. long.; 46°38.17′ N. lat., 124°30.00′ W. long with the following exceptions: on days that the primary halibut fishery is open lingcod may be taken, retained and possessed within the RCA. Days open to Pacific halibut recreational fishing off Washington are announced on the NMFS hotline at (206) 526-6667 or (800) 662-9825. Retention of lingcod seaward of the boundary line approximating the 30 fm (55 m) depth contour south of 46°58′ N. lat. is prohibited on Fridays and Saturdays from July 1 through August 31. For additional regulations regarding the Washington recreational lingcod fishery, see paragraph (c)(1)(iv) of this section. Coordinates for the boundary line approximating the 30 fm (55 m) depth contour are listed in § 660.71.

(3) Between Leadbetter Point (46°38.17′ N. lat.) and the Washington/Oregon border (Marine Area 1), when Pacific halibut are onboard the vessel, no groundfish may be taken and retained, possessed or landed, except sablefish and Pacific cod from May 1 through September 30. Between Leadbetter Point (46°38.17′ N. lat.) and 46°25.00′ N. lat., recreational fishing for lingcod is prohibited year round seaward of a straight line connecting all of the following points in the order stated: 46°38.17′ N. lat., 124°21.00′ W. long.; and 46°25.00′ N. lat., 124°21.00′ W. long.

* * * * *

[FR Doc. 2011-32691 Filed 12-20-11; 8:45 am]

BILLING CODE 3510-22-P